DEPARTMENT OF ENERGY

Western Area Power Administration

Boulder Canyon Project

AGENCY: Western Area Power Administration, DOE.

ACTION: Notice of Proposed Base Charge and Rates Adjustment.

SUMMARY: The Western Area Power Administration (Western) is proposing an adjustment to the Boulder Canyon Project (BCP) electric service base charge and rates. The current base charge and rates expire September 30, 2009, under Rate Schedule BCP-F7. The current base charge is not sufficient to cover all annual costs including operation, maintenance, replacements, and interest expense, and to repay investment obligations within the required period. The proposed base charge will provide sufficient revenue to cover all annual costs and to repay investment obligations within the allowable period. A detailed rate package that identifies the reasons for the base charge and rates adjustment will be available in March 2009. The proposed base charge and rates are scheduled to become effective on October 1, 2009, and will remain in effect through September 30, 2010. This Federal Register notice initiates the formal process for the proposed base charge and rates.

DATES: The consultation and comment period will begin today and will end May 4, 2009. Western will present a detailed explanation of the proposed base charge and rates at a public information forum on April 1, 2009, beginning at 10:30 a.m. MST, in Phoenix, AZ. Western will accept oral and written comments at a public comment forum on April 22, 2009, beginning at 10:30 a.m. MST at the same location. Western will accept written comments any time during the consultation and comment period.

ADDRESSES: The public information forum and public comment forum will be held at the Desert Southwest Customer Service Regional Office, located at 615 South 43rd Avenue, Phoenix, AZ, on the dates cited above. Written comments should be sent to Darrick Moe, Regional Manager, Desert Southwest Customer Service Region, Western Area Power Administration, P.O. Box 6457, Phoenix, AZ 85005-6457, e-mail moe@wapa.gov. Written comments may also be faxed to (602) 605-2490, attention: Jack Murray. Western will post information about the rate process on its Web site at http://www.wapa.gov/dsw/pwrmkt/BCP/RateAdjust.htm. Western will post official comments received via letter, fax, and e-mail to its Web site after the close of the comment period. Western must receive written comments by the end of the consultation and comment period to ensure they are considered in Western's decision process.

As access to Western facilities is controlled, any U.S. citizen wishing to attend any meeting held at Western must present an official form of picture identification, such as a U.S. driver's license, U.S. passport, U.S. Government ID, or U.S. Military ID, at the time of the meeting. Foreign nationals should contact Western at least 45 days in advance of the meeting to obtain the necessary form for admittance to Western.

FOR FURTHER INFORMATION CONTACT: Mr. Jack Murray, Rates Manager, Desert Southwest Customer Service Region, Western Area Power Administration, P.O. Box 6457, Phoenix, AZ 85005-6457, (602) 605-2442, e-mail jmurray@wapa.gov.

SUPPLEMENTARY INFORMATION: The proposed base charge and rates for BCP electric service are designed to recover an annual revenue requirement that includes the investment repayment, interest, operation and maintenance, replacements, payments to states, visitor services, and uprating payments. The total costs are offset by the projected revenue from water sales, visitor center, water pumping energy sales, facilities use charges, regulation and spinning reserve services, miscellaneous leases, and late fees. The annual revenue requirement is the base charge for electric service and is divided equally between capacity dollars and energy dollars. Annual energy dollars are divided by annual energy sales, and annual capacity dollars are divided by annual capacity sales to determine the proposed energy rate and the proposed capacity rate.

Rate Schedule BCP-F7, Rate Order No. WAPA-120, became effective on October 1, 2005, for the period ending September 30, 2010.¹

¹ FERC confirmed and approved Rate Order No. WAPA-120 in Docket EF05-5091-000. See United States Department of Energy, Western Area Power Administration, Boulder Canyon Project, 115 FERC ¶ 61,362 (June 22, 2006).

The base charge for fiscal year (FY) 2010 is $72,394,809, the forecasted energy rate is 9.95 mills per kilowatthour (mills/kWh), the forecasted capacity rate is $1.80 per kilowattmonth (kWmonth), and the composite rate is 19.91 mills/kWh.

Under Rate Schedule BCP-F7, the proposed rates for BCP electric service will result in an overall composite rate increase of seven percent. The following table compares the current and proposed base charge and rates.

Comparison of Current and Proposed Base Charge and Rates
| Current October 1, 2008 through September 30, 2009 | Proposed October 1, 2009 through September 30, 2010 | % Change
Composite Rate (mills/kWh) | 18.62 | 19.91 | 7
Base Charge ($) | 70,213,497 | 72,394,809 | 3
Energy Rate (mills/kWh) | 9.31 | 9.95 | 7
Capacity Rate ($/kWmonth) | 1.73 | 1.80 | 4

The increase in the proposed base charge and rates is due to increases in the annual operation and maintenance costs, visitor center costs, and the uprating program payments. Initial analysis of the projected financial data for FY 2010 reflects a slight decrease in overall annual costs and a slight increase in other revenues when compared to FY 2009. However, since there is no projected year-end carryover into FY 2010, the result is an overall increase in the base charge for FY 2010. Another factor contributing to the increase in the rates is the decrease in energy and capacity sales associated with continued poor hydrology in the region resulting in lower than normal Lake Mead water elevations.

Legal Authority

Western will hold both a public information forum and a public comment forum. After review of public comments, Western will take further action on the proposed base charge and rates consistent with 10 CFR parts 903 and 904.

Western is establishing an electric service base charge and rates for BCP under the Department of Energy Organization Act (42 U.S.C. 7152); the Reclamation Act of 1902 (ch. 32 Stat. 388), as amended and supplemented by subsequent laws, particularly section 9(c) of the Reclamation Project Act of 1939 (43 U.S.C. 485h(c)), and other acts that specifically apply to the project involved.

By Delegation Order No. 00-037.00, effective December 6, 2001, the Secretary of Energy delegated: (1) The authority to develop power and transmission rates to Western's Administrator; (2) the authority to confirm, approve, and place such rates into effect on an interim basis to the Deputy Secretary of Energy; and (3) the authority to confirm, approve, and place into effect on a final basis, to remand or to disapprove such rates to FERC. Existing Department of Energy (DOE) procedures for public participation in power rate adjustments (10 CFR part 903) were published on September 18, 1985.

Availability of Information

All brochures, studies, comments, letters, memorandums, or other documents that Western initiates or uses to develop the proposed rates are available for inspection and copying at the Desert Southwest Customer Service Regional Office, Western Area Power Administration, 615 South 43rd Avenue, Phoenix, AZ. Many of these documents and supporting information are also available on Western's Web site at http://www.wapa.gov/dsw/pwrmkt/BCP/RateAdjust.htm.

Ratemaking Procedure Requirements

Environmental Compliance

In compliance with the National Environmental Policy Act of 1969 (NEPA) (42 U.S.C. 4321, et seq.), the Council on Environmental Quality Regulations for implementing NEPA (40 CFR parts 1500-1508), and DOE NEPA Implementing Procedures and Guidelines (10 CFR part 1021), Western has determined this action is categorically excluded from preparing an environmental assessment or an environmental impact statement.

Determination Under Executive Order 12866

Western has an exemption from centralized regulatory review under Executive Order 12866, accordingly, no clearance of this notice by the Office of Management and Budget is required.

Dated: January 5, 2009.
Timothy J. Meeks,
Administrator.

[FR Doc. E9-2167 Filed 1-30-09; 8:45 am]

BILLING CODE 6450-01-P